ENVIRONMENTAL PROTECTION AGENCY

[EPA-HQ-OECA-2019-0204; FRL-9992-91-OECA]

Enforcement and Compliance: Enhancing EPA-State Planning and Communication

AGENCY: Environmental Protection Agency (EPA).

ACTION: Notice and request for comments.

SUMMARY: The Environmental Protection Agency (EPA) is soliciting public comment on its policy of Enhancing Planning and Communication Between the EPA and States in Civil Enforcement and Compliance Assurance Work. The draft Policy is available for review at https://www.epa.gov/sites/production/files/2019-04/documents/guidance-enhancingregionalstatecommunicationoncompliance-190422.pdf.

DATES: Comments must be received on or before June 12, 2019.

ADDRESSES: You may send comments, identified by Docket ID No. EPA-HQ-OECA-2019-0204; to https://www.regulations.gov. Follow the online instructions for submitting comments.

Instructions: All submissions received must include the Docket ID No. for this notice. Comments received will be posted without change to https://www.regulations.gov/, including any personal information provided. For detailed instructions on sending comments and additional information on the notice process, see the “Written Comments” heading of the SUPPLEMENTARY INFORMATION section of this document.

FOR FURTHER INFORMATION CONTACT: Kathleen H. Johnson, Senior Policy Advisor, Mail Code: 2261A, Environmental Protection Agency, 1200 Pennsylvania Ave. NW, Washington, DC 20460; telephone number: (202) 564-5401; fax number: (202) 501-3842; email address: Johnson.Kathleen@epa.gov.

SUPPLEMENTARY INFORMATION: In January 2018, the Office of Enforcement and Compliance Assurance issued an Interim Guidance document to help move the Agency toward a more collaborative partnership between EPA and states, with the expectation that the guidance would be later updated. The interim document may be viewed at https://www.epa.gov/sites/production/files/2018-01/documents/guidance-enhancingregionalstatecommunicationoncompliance.pdf.

The EPA is seeking comments on a policy that would replace that Interim Guidance and would set out expectations and procedures for enhancing planning and communication on civil enforcement work between the EPA and States that are implementing Federal environmental programs. While this policy is focused on the EPA's work with States that are approved to implement Federal programs, the EPA also is seeking comments on applying these planning and communication practices when working with federally-recognized Indian tribes, territories, and local governments that have received approval to implement Federal programs. This is an Agency planning document and would not impose any legally binding requirements on EPA or any outside parties.

Submit your comments, identified by Docket ID No. EPA-HQ-OECA-2019-0204; at https://www.regulations.gov. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit https://www.epa.gov/dockets/commenting-epa-dockets.

The EPA will consider all timely-submitted public comments in determining whether and how to finalize this policy statement.

Dated: April 25, 2019.
Susan Parker Bodine,
Assistant Administrator, Office of Enforcement and Compliance Assurance.

[FR Doc. 2019-09764 Filed 5-10-19; 8:45 am]

BILLING CODE 6560-50-P